DEPARTMENT OF THE INTERIOR

National Park Service

[NPS-WASO-NAGPRA-NPS0033786; PPWOCRADN0-PCU00RP14.R50000]

Notice of Inventory Completion for Native American Human Remains and Associated Funerary Objects in the Possession of the University Museum, University of Arkansas, Fayetteville, AR; Correction

AGENCY: National Park Service, Interior.

ACTION: Notice; correction.

SUMMARY: The University of Arkansas Museum has corrected an inventory of human remains and associated funerary objects, published in a Notice of Inventory Completion in the Federal Register on August 15, 2000. This notice corrects the minimum number of individuals and number of associated funerary objects. Lineal descendants or representatives of any Indian Tribe or Native Hawaiian organization not identified in this notice that wish to request transfer of control of these human remains and associated funerary objects should submit a written request to the University of Arkansas Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of Arkansas Museum at the address in this notice by May 31, 2022.

FOR FURTHER INFORMATION CONTACT: Dr. Mary Suter, University of Arkansas Museum, Biomass 125, Fayetteville, AR 72701, telephone (479) 575-3456, email msuter@uark.edu.

SUPPLEMENTARY INFORMATION: Notice is here given in accordance with the Native American Graves Protection and Repatriation Act (NAGPRA), 25 U.S.C. 3003, of the correction of an inventory of human remains and associated funerary objects under the control of the University of Arkansas Museum, Fayetteville, AR. The human remains and associated funerary objects were removed from the Bradley Site, Crittenden County, AR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and associated funerary objects published in a Notice of Inventory Completion in the Federal Register (65 FR 49835, August 15, 2000). The correction is being made to include additional human remains and associated funerary objects that were found during a re-inventory of the collection. Transfer of control of the items in this correction notice has not occurred.

Correction

In the Federal Register (65 FR 49835, August 15, 2000), column 1, paragraph 4 is corrected by substituting the following paragraph:

In 1932, human remains representing a minimum of 29 individuals were recovered from the Bradley Site (3CT7), Crittenden County, AR, during excavations conducted by the University Museum. No known individuals were identified. The 145 associated funerary objects are composed of 134 objects present in the Museum collections and 11 objects that are currently missing. The 134 associated funerary objects are one deer antler tine, one lot of ash, one shell bead, nine ceramic bottles, eight ceramic bowls, two bone die, one discoidal, two ear plugs. two effigy bottles, six effigy bowls, one effigy jar, one gorget, three ceramic jars, one deer mandible, 94 body sherds, one rim sherd. The University of Arkansas Museum continues to look for the missing 11 associated funerary objects, which are one bone awl, four ceramic bottles, three ceramic bowls, one effigy bowl, one bone needle, and one ceramic sherd.

In the Federal Register (65 FR 49835, August 15, 2000), column 2, paragraph 2, sentences 1 and 2 are corrected by substituting the following sentences:

Based on the above-mentioned information, officials of the University Museum, University of Arkansas have determined that, pursuant to 43 CFR 10.2(d)(1), the human remains listed above represent the physical remains of a minimum of 29 individuals of Native American ancestry. Officials of the University Museum, University of Arkansas also have determined that, pursuant to 43 CFR 10.2(d)(2), the 145 objects listed above are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Dr. Mary Suter, University of Arkansas Museum, Biomass 125, Fayetteville, AR 72701, telephone (479) 575-3456, email msuter@uark.edu, by May 31, 2022. After that date, if no additional requestors have come forward, transfer of control of the human remains and associated funerary objects to the Quapaw Nation [previously listed as The Quapaw Tribe of Indians] may proceed.

The University of Arkansas Museum is responsible for notifying the Quapaw Nation [previously listed as The Quapaw Tribe of Indians] and the Tunica-Biloxi Indian Tribe that this notice has been published.

Dated: April 20, 2022.
Melanie O'Brien,
Manager, National NAGPRA Program.

[FR Doc. 2022-09159 Filed 4-27-22; 8:45 am]

BILLING CODE 4312-52-P